DEPARTMENT OF HOMELAND SECURITY

Coast Guard

33 CFR Part 165

[Docket No. USCG-2009-0632]

Safety Zones: Annual Events Requiring Safety Zones in the Captain of the Port Detroit Zone

AGENCY: Coast Guard, DHS.

ACTION: Notice of enforcement.

SUMMARY: The Coast Guard will enforce the safety zones for annual fireworks events in the Captain of the Port Detroit zone from 9 p.m. on July 3, 2009 through 11 p.m. on July 25, 2009. This action is necessary and intended to ensure safety of life on the navigable waters immediately prior to, during, and immediately after fireworks events. This rule will establish restrictions upon, and control movement of, vessels in a specified area immediately prior to, during, and immediately after fireworks events. During the enforcement period, no person or vessel may enter the safety zone without permission of the Captain of the Port.

DATES: The regulations in 33 CFR part 165 will be enforced as listed below under the subject heading SUPPLEMENTARY INFORMATION.

FOR FURTHER INFORMATION CONTACT: CDR Joseph Snowden, Prevention, U.S. Coast Guard Sector Detroit, 110 Mount Elliot Ave., Detroit, MI 48207; (313)-568-9580, e-mail Joseph.H.Snowden@uscg.mil.

SUPPLEMENTARY INFORMATION: The Coast Guard will enforce the following safety zones which were published in the August 8, 2008 issue of the Federal Register. (73 FR 46194):

Section 165.941(a)(22) Catawba Island Club Fireworks, Catawba Island, OH. This regulation is effective and will be enforced from 9 p.m. until 10 p.m. on July 3, 2009.

Section 165.941(a)(43) Lexington Independence Festival Fireworks, Lexington, MI. This regulation will be effective from 9:30 p.m. on July 3, 2009 to 10:30 p.m. on July 5, 2009. This regulation will be enforced from 9:30 p.m. until 10:30 p.m. on July 3, 2009. In the event of inclement weather, this regulation will be enforced from 9:30 p.m. until 10:30 p.m. on July 5, 2009.

Section 165.941(a)(31) Safety zone; Lake Erie Metropark Fireworks, Gibraltar, MI. This regulation is effective and will be enforced from 10 p.m. to 11 p.m. on July 3, 2009.

Section 165.941(a)(37) Safety zone; Caseville Fireworks, Caseville, MI. This regulation is effective from 10 p.m. on July 3, 2009 to 11 p.m. on July 5, 2009. This regulation will be enforced from 10 p.m. until 11 p.m. on July 3, 2009. In the event of inclement weather, this regulation will be enforced from 10 p.m. until 11 p.m. on July 5, 2009.

Section 165.941(a)(32) Safety zone; City of St. Clair Fireworks, St. Clair, MI. This regulation will be effective from 10 p.m. July 4, 2009 to 11 p.m. on July 5, 2009. This regulation will be enforced from 10 p.m. until 11 p.m. on July 4, 2009. In the event of inclement weather, this regulation will be enforced from 10 p.m. until 11 p.m. on July 5, 2009.

Section 165.941(a)(5) Alpena Fireworks, Alpena, MI. This regulation is effective from 10 p.m. on July 4, 2009 to 11 p.m. on July 5, 2009. This regulation will be enforced from 10 p.m. until 11 p.m. on July 4, 2009. In the event of inclement weather, this regulation will be enforced from 10 p.m. until 11 p.m. on July 5, 2009.

Section 165.941(a)(47) Safety zone; Belle Maer Harbor 4th of July Fireworks, Harrison Township, MI. This regulation will be effective from 10 p.m. July 4, 2009 to 11 p.m. on July 5, 2009. This regulation will be enforced from 10 p.m. until 11 p.m. on July 4, 2009. In the event of inclement weather, this regulation will be enforced from 10 p.m. until 11 p.m. on July 5, 2009.

Section 165.941(a)(42) Safety zone; Grosse Pointe Yacht Club 4th of July Fireworks, Grosse Pointe Shores, MI. This regulation will be effective from 10 p.m. July 4, 2009 to 10:30 p.m. on July 5, 2009. This regulation will be enforced from 10 p.m. until 10:30 p.m. on July 4, 2009. In the event of inclement weather, this regulation will be enforced from 10 p.m. until 10:30 p.m. on July 5, 2009.

Section 165.941(a)(34) Safety zone; Port Austin Fireworks, Port Austin, MI. This regulation will be effective from 10 p.m. July 4, 2009 to 10:30 p.m. on July 5, 2009. This regulation will be enforced from 10 p.m. until 10:30 p.m. on July 4, 2009. In the event of inclement weather, this regulation will be enforced from 10 p.m. until 10:30 p.m. on July 5, 2009.

Section 165.941(a)(8) Safety zone; Harrisville Fireworks, Harrisville, MI. This regulation will be effective from 10 p.m. July 4, 2009 to 11 p.m. on July 5, 2009. This regulation will be enforced from 10 p.m. until 11 p.m. on July 4, 2009. In the event of inclement weather, this regulation will be enforced from 10 p.m. until 11 p.m. on July 5, 2009.

Section 165.941(a)(38) Safety zone; Algonac Pickerel Tournament Fireworks, Algonac, MI. This regulation will be effective from 10 p.m. July 4, 2009 to 10:30 p.m. on July 5, 2009. This regulation will be enforced from 10 p.m. until 10:30 p.m. on July 4, 2009. In the event of inclement weather, this regulation will be enforced from 10 p.m. until 10:30 p.m. on July 5, 2009.

Section 165.941(a)(36) Safety zone; Grosse Pointe Farms Fireworks, Grosse Pointe Farms, MI. This regulation will be effective from 10 p.m. July 4, 2009 to 10:30 p.m. on July 5, 2009. This regulation will be enforced from 10 p.m. until 10:30 p.m. on July 4, 2009. In the event of inclement weather, this regulation will be enforced from 10 p.m. until 10:30 p.m. on July 5, 2009.

Section 165.941(a)(23) Safety zone; Red, White and Blues Bang Fireworks, Huron, OH. This regulation is effective and will be enforced from 10 p.m. until 11 p.m. on July 4, 2009.

Section 165.941(a)(46) Safety zone; Trenton Fireworks, Trenton, MI. This regulation will be effective from 10 p.m. July 4, 2009 to 11 p.m. on July 5, 2009. This regulation will be enforced from 10 p.m. until 11 p.m. on July 4, 2009. In the event of inclement weather, this regulation will be enforced from 10 p.m. until 11 p.m. on July 5, 2009.

Section 165.941(a)(45) Safety zone; Grosse Isle Yacht Club Fireworks, Grosse Isle, MI. This regulation will be effective from 9 p.m. July 4, 2009 to 11 p.m. on July 5, 2009. This regulation will be enforced from 9 p.m. until 11 p.m. on July 4, 2009. In the event of inclement weather, this regulation will be enforced from 9 p.m. until 11 p.m. on July 5, 2009.

Section 165.941(a)(3) Safety zone; Au Gres City Fireworks, Au Gres, MI. This regulation is effective and will be enforced from 10 p.m. until 11 p.m. on July 4, 2009.

Section 165.941(a)(21) Safety zone; Lakeside July 4th Fireworks, Lakeside, OH. This regulation will be effective from 9:30 p.m. July 4, 2009 to 10:30 p.m. on July 5, 2009. This regulation will be enforced from 9:30 p.m. until 10:30 p.m. on July 4, 2009. In the event of inclement weather, this regulation will be enforced from 9:30 p.m. until 10:30 p.m. on July 5, 2009.

Section 165.941(a)(6) Safety zone; Put-in-Bay Fourth of July Fireworks, Put-in-Bay, OH. This regulation will be effective from 10 p.m. July 4, 2009 to 11 p.m. on July 5, 2009. This regulation will be enforced from 10 p.m. until 11 p.m. on July 4, 2009. In the event of inclement weather, this regulation will be enforced from 10 p.m. until 11 p.m. on July 5, 2009.

Section 165.941(a)(17) Safety zone; Luna Pier Fireworks, Luna Pier, MI. This regulation is effective and will be enforced from 10 p.m. until 11 p.m. on July 4, 2009.

Section 165.941(a)(48) Safety zone; Tawas City 4th of July Fireworks, Tawas, MI. This regulation will be effective from 9:30 p.m. July 4, 2009 to 10:30 p.m. on July 5, 2009. This regulation will be enforced from 9:30 p.m. until 10:30 p.m. on July 4, 2009. In the event of inclement weather, this regulation will be enforced from 9:30 p.m. until 10:30 p.m. on July 5, 2009.

Section 165.941(a)(24) Safety zone; Ecorse Water Festival Fireworks, Ecorse, MI. This regulation will be effective from 9:30 p.m. July 4, 2009 to 10:30 p.m. on July 5, 2009. This regulation will be enforced from 9:30 p.m. until 10:30 p.m. on July 4, 2009. In the event of inclement weather, this regulation will be enforced from 9:30 p.m. until 10:30 p.m. on July 5, 2009.

Section 165.941(a)(24) Safety zone; Huron Riverfest Fireworks, Huron, OH. This regulation will be effective from 10 p.m. July 10, 2009 to 11 p.m. on July 11, 2009. This regulation will be enforced from 10 p.m. until 11 p.m. on July 10, 2009. In the event of inclement weather, this regulation will be enforced from 10 p.m. until 11 p.m. on July 11, 2009.

Section 165.941(a)(9) Safety zone; Harbor Beach Fireworks, Harbor Beach, MI. This regulation will be effective from 10 p.m. July 11, 2009 to 11 p.m. on July 12, 2009. This regulation will be enforced from 10 p.m. until 11 p.m. on July 11, 2009. In the event of inclement weather, this regulation will be enforced from 10 p.m. until 11 p.m. on July 12, 2009.

Section 165.941(a)(10) Safety zone; Trenton Rotary Roar on the River Fireworks, Trenton, MI. This regulation is effective and will be enforced from 10 p.m. until 11 p.m. on July 25, 2009.

Under the provisions of 33 CFR 165.20, entry into, transiting, or anchoring within these safety zones is prohibited unless authorized by the Captain of the Port Detroit or his designated representative. Vessels that wish to transit through the safety zones may request permission from the Captain of the Port Detroit. Requests must be made in advance and approved by the Captain of the Port before transits will be authorized. Approvals will be granted on a case by case basis. The Captain of the Port may be contacted via U.S. Coast Guard Sector Detroit on channel 16, VHF-FM. The Coast Guard will give notice to the public via a Broadcast to Mariners that the regulation is in effect.

This notice is issued under authority of 33 CFR 165.20 and 5 U.S.C. 552(a). If the District Commander, Captain of the Port, or other official authorized to do so, determines that the regulated area need not be enforced for the full duration stated in this notice, he or she may use a Broadcast Notice to Mariners to grant general permission to enter the safety zone.

Dated: July 1, 2009.
F.M. Midgette,
Captain, U.S. Coast Guard, Captain of the Port Detroit.

[FR Doc. E9-17100 Filed 7-17-09; 8:45 am]

BILLING CODE 4910-15-P